DEPARTMENT OF ENERGY

Advanced Scientific Computing Advisory Committee (ASCAC)

AGENCY: Office of Science, Department of Energy.

ACTION: Notice of Open Meeting.

SUMMARY: This notice announces a meeting of the Advanced Scientific Computing Advisory Committee (ASCAC). The Federal Advisory Committee Act (Pub. L. 92-463, 86 Stat. 770) requires that public notice of these meetings be announced in the Federal Register.

DATES: Tuesday, March 24, 2015; 8:30 a.m.-5:30 p.m.

ADDRESSES: American Geophysical Union, (AGU), 2000 Florida Avenue NW., Washington, DC 20009-1277.

FOR FURTHER INFORMATION CONTACT: Melea Baker, Office of Advanced Scientific Computing Research; SC-21/Germantown Building; U. S. Department of Energy; 1000 Independence Avenue SW.; Washington, DC 20585-1290; Telephone (301) 903-7486.

SUPPLEMENTARY INFORMATION: Purpose of the Board: The Board provides advice and recommendations to the Office of Scientific Computing Research and to the Department of Energy on scientific priorities within the field of advanced scientific computing research.

Purpose of the Meeting: This meeting is the semi-annual meeting of the Committee.

Tentative Agenda: Agenda will include discussions of the following:

• View from Washington (an update on the budget and planned activities of the Office of Science and the Department)

• View from Germantown (an update on the budget, accomplishments and planned activities of the Advanced Scientific Computing Research program)

• Update from the Subcommittee reviewing the Department's Exascale Plan

• Update from Subcommittee on the Office of Scientific and Technical Information (OSTI)

• Program response to report from the SciDAC Committee of Visitors (COV)

• A technical presentation from an early career researcher in Computer Science

• Public Comment (10-minute rule)

The meeting will conclude at 5:30 p.m. Agenda updates and presentations will be posted on the ASCAC Web site prior to the meeting: http://science.energy.gov/ascr/ascac/.

Public Participation: The meeting is open to the public. To access the Ready Talk call:

1. Dial Toll-Free Number: 866-740-1260 (U.S. & Canada)

2. International participants dial: http://www.readytalk.com/intl

3. Enter access code 9039560, followed by “#”

Individuals and representatives of organizations who would like to offer comments and suggestions may do so during the meeting. Approximately 30 minutes will be reserved for public comments. Time allotted per speaker will depend on the number who wish to speak but will not exceed 5 minutes. The Designated Federal Officer is empowered to conduct the meeting in a fashion that will facilitate the orderly conduct of business. Those wishing to speak should register to do so beginning at 11:30 a.m. on March 9th. Those not able to attend the meeting or who have insufficient time to address the committee are invited to send a written statement to Christine Chalk, U.S. Department of Energy, 1000 Independence Avenue SW., Washington DC 20585, email to: Christine.Chalk@science.doe.gov. This notice is being published less than 15 days prior to the meeting date due to inclement weather and programmatic issues, and members' availability.

Minutes: The minutes of this meeting will be available on the U.S. Department of Energy's Office of Advanced Scientific Computing Web site at http://science.energy.gov/ascr/ascac/

Issued at Washington, DC, on March 10, 2015.
LaTanya R. Butler,
Deputy Committee Management Officer.

[FR Doc. 2015-05943 Filed 3-13-15; 8:45 am]

BILLING CODE 6450-01-P